DEPARTMENT OF JUSTICE

Antitrust Division

Notice Pursuant to the National Cooperative Research and Production Act of 1993—Microelectronics and Computer Technology Corporation (“MCC”)

Notice is hereby given that, on September 22, 2000, pursuant to Section 6(a) of the National Cooperative Research and Production Act of 1993, 15 U.S.C. 4301 et seq. (“the Act”), Microelectronics and Computer Technology Corporation (“MCC”) has filed written notifications simultaneously with the Attorney General and the Federal Trade Commission disclosing changes in its membership status. The notifications were filed for the purpose of extending the Act's provisions limiting the recovery of antitrust plaintiffs to actual damages under specified circumstances. Specifically, General Electric, Fairfield, CT; Mobil Technology Company, Fairfax, VA; NASA-Ames, Moffett Field, CA; National Security Agency, Fort Meade, MD; Rafael, Haisa, Israel; and TRW, Inc., Redondo Beach, CA have been dropped as parties to this venture. Also, the Infosleuth II, Cobra, PACE, and MEMS projects have ended.

No other changes have been made in either the membership or planned activity of the group research project. Membership in this group research project remains open, and Microelectronics and Computer Technology Corporation intends to file additional written notification disclosing all changes in membership.

On December 21, 1984, Microelectronics and Computer Technology Corporation filed its original notification pursuant to Section 6(a) of the Act. The Department of Justice published a notice in the Federal Register pursuant to Section 6(b) of the Act on January 17, 1985 (50 FR 2633).

The last notification was filed with the Department on March 31, 2000. A notice was published in the Federal Register pursuant to Section 6(b) of the Act on June 29, 2000 (65 FR 40130).

Constance K. Robinson,
Director of Operations, Antitrust Division.

[FR Doc. 00-28179 Filed 11-1-00; 8:45 am]

BILLING CODE 4410-11-M